RAILROAD RETIREMENT BOARD

Proposed Collection; Comment Request

Summary: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected: and (d) ways to minimize the burden related to the collecton of information on respondents, including the use of automated collection techniques or other forms of information technology.

Title and Purpose of Information Collection

Request for Medicare Payment; OMB 3220-0131

Under section 7(d) of the Railroad Retirement Act, the RRB administers the Medicare program for persons covered by the railroad retirement system. The collection obtains the information needed by Palmetto GBA, the Medicare carrier for railroad retirement beneficiaries, to pay claims for payments under part B of the Medicare program. Authority for collecting the information is prescribed in 42 CFR 424.32.

The RRB currently utilizes Forms G-740S and CMS 1500 to secure the information necessary to pay Part B Medicare Claims. One reponse is completed for each claim. Completion is required to obtain a benefit. No changes are proposed to RRB Form G-740S or CMS Form 1500. The RRB estimates annual respondent burden associated with RRB Form G-740s as follows:

Estimated number of responses: 100.

Estimated completion time per response: 15 minutes.

Estimated annual of burden hours: 25.

Additional Information or Comments: To request more information or to obtain a copy of the information collection justification, forms, and/or supporting material, please call the RRB Clearance Officer at (312) 751-3363. Comments regarding the information collection should be addressed to Ronald J. Hodapp, Railroad Retirement Board, 844 N. Bush Street, Chicago, Illinois 60611-2092. Written comments should be received within 60 days of this notice.

Chuck Mierzwa,
Clearance Officer.

[FR Doc. 03-9266 Filed 4-15-03; 8:45 am]

BILLING CODE 7905-01-M